ENVIRONMENTAL PROTECTION AGENCY

[EPA-HQ-OPPT-2010-0572; FRL-12295-01-OMS]

Agency Information Collection Activities; Submission to the Office of Management and Budget for Review and Approval; Comment Request; Chemical-Specific Rules Under the Toxic Substances Control Act; Certain Nanoscale Materials (Renewal)

AGENCY: Environmental Protection Agency (EPA).

ACTION: Notice.

SUMMARY: The Environmental Protection Agency (EPA) has submitted an information collection request (ICR), Chemical-Specific Rules under the Toxic Substances Control Act; Certain Nanoscale Materials (EPA ICR Number 2517.04 and OMB Control Number 2070-0194), to the Office of Management and Budget (OMB) for review and approval in accordance with the Paperwork Reduction Act. This is a proposed extension of the ICR, which is currently approved through September 30, 2024. Public comments were previously requested via the Federal Register on February 1, 2024 during a 60-day comment period. This notice allows for an additional 30 days for public comments.

DATES: Comments may be submitted on or before October 30, 2024.

ADDRESSES: Submit your comments, referencing Docket ID Number EPA-HQ-OPPT-2010-0572, to EPA online using www.regulations.gov (our preferred method) or by mail to: EPA Docket Center, Environmental Protection Agency, Mail Code 2821T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Office of Program Support (7602M), Office of Chemical Safety and Pollution Prevention, Environmental Protection Agency, 1200 Pennsylvania Ave. NW, Washington, DC 20460; telephone number: (202) 566-1204; email address: sleasman.katherine@epa.gov.

SUPPLEMENTARY INFORMATION: This is a proposed extension of the ICR, which is currently approved through September 30, 2024. An agency may not conduct or sponsor and a person is not required to respond to a collection of information unless it displays a currently valid OMB control number.

Public comments were previously requested via the Federal Register on February 2, 2024, during a 60-day comment period (88 FR 6520). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit www.epa.gov/dockets.

Abstract: This ICR covers reporting and recordkeeping requirements for persons who manufacture or process chemical substances as nanoscale materials established under the authority of section 8(a) of the Toxic Substances Control Act (TSCA) and implementing regulations in 40 CFR part 704.20.

Form numbers: 9600-07.

Respondents/affected entities: As defined in 40 CFR 704.20(b), potential respondents include those who can reasonably ascertain that they are manufacturers (defined by statute to include importers) and/or processors of a discrete form of a reportable chemical substance or mixture. To estimate the burden, EPA considered entities potentially affected by this ICR as those that can be classified under the North American Industrial Classification System (NAICS) codes identified in question 12 of the supporting statement.

Respondent's obligation to respond: Mandatory. TSCA section 8(a) and 40 CFR 704.20.

Estimated number of potential respondents: 16 (total).

Frequency of response: Occasional.

Total estimated burden: 959 hours (per year). Burden is defined at 5 CFR 1320.3(b).

Total estimated cost: $69,280 (per year), which includes no annualized capital or operation & maintenance costs.

Changes in the estimates: There is a decrease of 39,131 hours in the total estimated respondent burden compared with the ICR currently approved by OMB. This decrease reflects EPA's adjustments in the estimation methodology of the costs and burden as discussed in question 12 of the supporting statement. The two key adjustments involve a reduction in estimated submissions based on actual submissions received by the EPA over the last 3-year period and calculating a weighted burden for any given respondent without separating the manufacturers from the processors. In addition to the adjustments to the burden estimates, the wage rates were revised to reflect 2022 dollars for this information collection request.

Courtney Kerwin,
Director, Information Engagement Division.

[FR Doc. 2024-22392 Filed 9-27-24; 8:45 am]

BILLING CODE 6560-50-P